DEPARTMENT OF HEALTH AND HUMAN SERVICES

National Biodefense Science Board Public Meeting

AGENCY: Administration for Strategic Preparedness and Response (ASPR), U.S. Department of Health and Human Services (HHS).

ACTION: Notice.

SUMMARY: The National Biodefense Science Board (NBSB) will publicly meet using an online format. Notice of the meeting is required under section 10 (a)(2) of the Federal Advisory Committee Act (FACA). The NBSB provides expert advice and guidance to HHS regarding current and future chemical, biological, radiological, and nuclear threats, as well as other matters related to disaster preparedness and response. ASPR manages and convenes the NBSB on behalf of the Secretary of HHS.

DATES: Monday, August 28, 2023 (1 p.m.-3 p.m. ET).

FOR FURTHER INFORMATION CONTACT: Dr. Lara Lamprecht, National Advisory Committees (NAC) Branch Chief; NBSB Designated Federal Official, (202) 578-7321; NBSB@HHS.GOV.

SUPPLEMENTARY INFORMATION:

Procedures for Public Participation: The public and expert stakeholders are invited to observe the meeting. Pre-registration (Zoom) is required. Anyone may submit questions and comments to the NBSB by email (NBSB@hhs.gov) before the meeting. American Sign Language translation and Communication Access Real-Time Translation will be provided.

Representatives from industry, academia, health professions, health care consumer organizations, non-Federal Government agencies, or community-based organizations may request up to seven minutes to speak directly to the Board. Requests to speak to the Board will be approved in consultation with the Board Chair and based on time available during the meeting. Requests to speak to the NBSB during the public meeting must be sent to NBSB@hhs.gov by close of business on August 14, 2023. Please provide the full name, credentials, official position(s), and relevant affiliations for the speaker and a brief description of the intended topic. Presentations that contain material with a commercial bias, advertising, marketing, or solicitations will not be allowed. A meeting summary will be available on the NBSB website post meeting.

Dawn O'Connell,
Assistant Secretary for Preparedness and Response.

[FR Doc. 2023-14838 Filed 7-12-23; 8:45 am]

BILLING CODE 4150-37-P